DEPARTMENT OF JUSTICE

Notice of Lodging of Consent Decree Under the Comprehensive Environmental Response, Compensation and Liability Act

Notice is hereby given that on January 30, 2001, a proposed Consent Decree (“Decree”) in United States v. Avco Corporation, Civil No. 4:CZ01-0198, was lodged with the United States District Court for the Middle District of Pennsylvania. The United States filed this action pursuant to the Comprehensive Environmental Response, Compensation and Liability Act for recovery of costs incurred by the United States in responding to releases of hazardous substances at the Avco Lycoming Site in Williamsport, Pennsylvania.

Pursuant to the proposed Consent Decree, Avco Corporation will pay $461,500, in reimbursement of past costs, and agrees to pay future response costs of the United States, other than oversight costs.

The Department of Justice will receive for a period of thirty (30) days from the date of this publication comments relating to the Decree. Comments should be addressed to the Assistant Attorney General of the environment and Natural Resources Division, Department of Justice, Washington, DC 20530, and should refer to, United States v. Avco Corporation, D.J. Ref. #90-11-3-06903.

The Decree may be examined at the office of the U.S. Attorney, Federal Building, 228 Walnut Street, Harrisburg, Pennsylvania; at U.S. EPA Region 3, Office of Regional Counsel, 1650 Arch Street, Philadelphia, PA. A copy of the Decree may be obtained by mail from the Consent Decree Library, U.S. Department of Justice, P.O. Box 7611, Washington, DC 20044. In requesting a copy, please enclose a check in the amount of $44.75 for the Decree (25 cents per page reproduction cost) payable to the Consent Decree Library.

Walker B. Smith,
Deputy Chief, Environmental Enforcement Section, Environment and Natural Resources Division.

[FR Doc. 01-3275 Filed 2-7-01; 8:45 am]

BILLING CODE 4410-15-M